COMMODITY FUTURES TRADING

Sunshine Act Meetings

FEDERAL REGISTER CITATION OF PREVIOUS ANNOUNCEMENT: 69 FR 56748.

PREVIOUSLY ANNOUNCED TIME AND DATE OF THE MEETING: 10:30 a.m., Wednesday, September 29, 2004.

CHANGES IN THE MEETING: The Rule Enforcement Review has been cancelled.

CONTACT FOR FURTHER INFORMATION: Jean A. Webb, (202) 418-5100.

Jean A. Webb,
Secretary of the Commission.

[FR Doc. 04-21969 Filed 9-27-04; 1:47 pm]

BILLING CODE 6351-01-M